DEPARTMENT OF LABOR

Employment and Training Administration

[TA-W-40,295]

TNS Mills, Spartanburg, SC; Notice of Negative Determination Regarding Application for Reconsideration

By application post marked on February 4, 2002, a petitioner, requested administrative reconsideration of the Department's negative determination regarding eligibility for workers and former workers of the subject firm to apply for Trade Adjustment Assistance (TAA). The denial notice was signed on December 31, 2001 and published in the Federal Register on January 11, 2002 (67 FR 1510).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at TNS Mills, Spartanburg, South Carolina engaged in the production of greige bottom-weight cotton rich apparel fabrics, was denied because the “contributed importantly” group eligibility requirement of section 222(3) of the Trade Act of 1974, as amended, was not met. The “contributed importantly” test is generally demonstrated through a survey of the workers' firm's customers. The Department conducted a survey of the subject company's major customers regarding their purchases of greige bottom-weight cotton rich apparel fabrics. The survey revealed that none of the customers increased their import purchases of greige bottom-weight cotton rich apparel fabrics during the relevant period.

The petitioner alleges that price and illegal imports are factors leading to the downturn in the textile industry. The petitioner further states that studies done by the North Carolina State University show this.

As noted above, the Department of Labor normally examines if the “contributed importantly” test is met through a survey of the workers” firm's customers. A review of the survey results shows that the customers did not increase their imports of greige bottom-weight cotton rich apparel fabrics during the relevant period.

In reference to petitioner's allegation concerning price, the price of a product is not relevant to meeting the “contributed importantly” criterion of the Trade Act of 1974.

Further, studies such as those by the North Carolina State University are considered, however the Department puts the overwhelming majority of weight on the direct impact of imports on the subject firm by the use of customer surveys to test if the “contributed importantly” test is met.

Conclusion

After review of the application and investigative findings, I conclude that there has been no error or misinterpretation of the law or of the facts which would justify reconsideration of the Department of Labor's prior decisions. Accordingly, the application is denied.

Signed at Washington, DC, this 30th day of April, 2002.
Edward A. Tomchick,
Director, Division of Trade Adjustment Assistance.

[FR Doc. 02-13542 Filed 5-29-02; 8:45 am]

BILLING CODE 4510-30-P